DEPARTMENT OF AGRICULTURE

Forest Service

Sierra National Forest, Bass Lake Ranger District, California, Fish Camp Project

AGENCY: Forest Service, USDA.

ACTION: Notice of intent to prepare an environmental impact statement.

SUMMARY: The Sierra National Forest, Bass Lake Ranger District is proposing to conduct a comprehensive series of treatments near a Wildland-Urban Interface area known as the community of Fish Camp. Strategically Placed Landscape Area Treatments (SPLATs) have been initially identified to provide a means to reduce the intensity and spread of wildland fires across the landscape and near communities. Additional treatments within these SPLATs have been identified where forest stands are densely stocked and thinning is needed. This thinning is needed to reduce inter-tree competition and improve tree vigor and increase stand resistance to drought conditions, insect and disease attack.

DATES: Comments concerning the scope of this analysis should be received no later than 30 days after the publication of this notice in the Federal Register. The draft environmental impact statement (DEIS) is expected in November 2010 and the final environmental impact statement (FEIS) is expected in March 2011.

ADDRESSES: Send written comments to U.S. Forest Service, Sierra National Forest, Bass Lake Ranger District, 57003 Road 225, North Fork, CA 93643, Attn: David Martin. Comments may also be sent via e-mail to comments-pacificsouthwest-sierra@fs.fed.us (use Rich Text format (.rtf) or Word format (.doc)) or via facsimile to (559) 877-3308.

It is important that reviewers provide their comments at such times and in such a way that they are useful to the Agency's preparation of the EIS. Therefore, comments should be provided prior to the close of the comment period and should clearly articulate the reviewer's concerns and contentions.

Comments received in response to this solicitation, including names and addresses of those who comment, will be part of the public record for this proposed action. However comments submitted anonymously will be accepted and considered.

FOR FURTHER INFORMATION CONTACT: Mark Lemon, Interdisciplinary Team Leader, at Sierra National Forest, Bass Lake Ranger District, 57003 Road 225, North Fork, CA 93643. Individuals who use telecommunication devices for the deaf (TDD) may call the Federal Information Relay Service (FIRS) at 1-800-877-8339 between 8 a.m. and 8 p.m., Eastern Time, Monday through Friday.

SUPPLEMENTARY INFORMATION: Background Information: The Fish Camp Project (Madera and Mariposa Counties, California) lies within the Big Creek watershed, where during the period before significant Euro-American influence, natural fires occurred frequently and were of low intensity with return intervals ranging from five to 10 years. During the past century, management activities (including harvesting operations, fire exclusion/suppression, etc.) and increased human habitation, have changed the composition of vegetation. Currently, vegetation within the Fish Camp Project has changed from one where frequent, low intensity fires occurred to one with increased susceptibility to moderate to high intensity wildland fire. Forest stand densities are above what can be sustained, with inter-tree competition increasing and tree vigor beginning to decline. Pockets of insect and disease attack are beginning to show in the stands as well as drought induced mortality.

The Fish Camp Project was originally to be documented in an Environmental Assessment (EA). The Fish Camp Project lies within the elevational bands for the Southern Sierra Fisher Conservation Area and the American marten. Public concern and management review surrounding the significance of potential impacts to the Pacific fisher, a candidate threatened and endangered species, the California spotted owl, a sensitive species, and American marten during past projects, has led to the decision to document the environmental analysis with an environmental impact statement (EIS) for this project.

Purpose and Need for Action

The Sierra National Forest Land and Resource Management Plan (as amended in January 2004) has identified Wildland-Urban Interface (WUI) areas as places where human habitation is mixed with areas of flammable wildland vegetation and has the highest priority for treatment. As directed in the Sierra Nevada Forest Plan Amendment (2004), national forests are to integrate fire and fuels management objectives with other resource management objectives and address the role of wildland fire in the ecosystem. The forest-wide standards and guidelines state that “vegetation within treatment areas should be modified to meet desired surface, ladder and crown fuel conditions as well as stand densities necessary for healthy forest during drought conditions”. The community of Fish Camp (Mariposa County, California) lies in the western portion of the project area. On the northern portion of the project boundary is Yosemite National Park. Many of the homes in Fish Camp do not have sufficient clearance to protect them if a fast moving wildland fire were to move into the area.

Vegetation in the Fish Camp Project area includes mixed conifer stands with some small areas of True Fir. Insect and drought induced mortality is beginning to appear in pockets within both natural stands and conifer plantations. Scattered throughout the project area are pockets of heavy dead and down material (branches, limbs and logs) resulting from natural accumulation and past management activities. In lower to mid-elevations of the project area and on the steeper slopes, brush (manzanita/ceanothus) is the main vegetation cover.

Based on the current conditions described above the Fish Camp Project objectives are to: (1) Reduce fuel ladders and excessive ground fuels that pose a potential for the propagation and sustainability of a crown fire, (2) minimize the effects of wildland fire in high risk (probability of ignition occurring), high hazard (availability of fuels to sustain a fire) wildland urban intermix area, (3) increase the vigor and health of mixed conifer stands and plantations, and (4) prevent and control the spread of noxious weeds.

Proposed Action

The proposed action includes vegetation treatment areas designed to create SPLATs to reduce the intensity and spread of wildland fire across the landscape and near communities and reduce inter tree competition to improve tree vigor and increase stand resistance to drought induced mortality, insect and disease attack. To accomplish the goals listed above, the Bass Lake Ranger District is proposing a 5700 acre project area with approximately 2,130 acres in vegetation treatment. The proposed action includes silvicultural and fuel reduction treatments used to accelerate the development of old forest characteristics and improve the resiliency of conifer stands and plantations to natural disturbances. In summary these treatments would include:

• Commercial thinning from below and mechanically treating approximately 45-50 year old pine plantations and 85-110 year old pine and mixed conifer forests to remove fuel ladders and reduce competition between remaining trees to maintain or improve forest resiliency and vigor.

• Mechanical treatment of brush/shrub patches and failed plantations to reduce wildland fire effects and to tie treatment areas together.

• Re-establish conifers in areas lacking appropriate stocking.

• Hand-pull noxious weeds, prior to project implementation, in order to minimize the likelihood of spread into recently treated forests (invasive weeds tend to spread opportunistically into freshly disturbed areas).

Estimated acre accomplishment of the gross vegetation treatment:

• Commercial thinning of approximately 1,250 acres of pine plantations (550+/−acres), pine and mixed conifer stands (700+/−acres).

• Masticating brush fields and pre-commercially thinning non-commercial size reproduction areas on approximately 215 acres;

• Treating slash concentrations on 1,450 acres by a combination of tractor and/or hand piling and burning. Of these 1,450 acres 1,000 may be available for under story burning.

• Prescribe burning approximately 200 acres.

Possible Alternatives

To comply with the National Environmental Policy Act, the Forest Service will evaluate additional alternatives to the proposed action developed based on public comments. A no action alternative to provide a baseline for comparison to the action alternatives will be included within the EIS. Each alternative will be explored and evaluated, or rationale will be given for eliminating an alternative from detailed study.

Responsible Official

The Responsible Official is Scott G. Armentrout, Forest Supervisor, Sierra National Forest, 1600 Tollhouse Road, Clovis, CA 93612.

Nature of Decision To Be Made

The Forest Supervisor will decide whether to implement the proposed action, take an alternative action that meets the purpose and need or take no action.

Scoping Process

This notice of intent initiates the scoping process, which guides the development of the environmental impact statement. The project is included in the Sierra National Forest's quarterly schedule of proposed actions (SOPA). Information on the proposed action will also he posted on the Sierra National Forests Web site, http://www.fs.fed.us/r5/sierra/projects, and will also be advertised in both the Fresno Bee and the Oakhurst Sierra Star. This notice of intent initiates the scoping process, which guides the development of the environmental impact statement. Comments submitted during this scoping period should writing and should be specific to the proposed action. The comments should describe as clearly and completely as possible any issues the commenter has with the proposal. It is important that reviewers provide their comments at such times and in such manner that they are useful to the agency's preparation of the environmental impact statement.

Dated: August 4, 2010.
Scott G. Armentout,
Forest Supervisor.

[FR Doc. 2010-19797 Filed 8-11-10; 8:45 am]

BILLING CODE 3410-11-M